DEPARTMENT OF HEALTH AND HUMAN SERVICES

National Institutes of Health

Notice of the Implementation of the National Institutes of Health (NIH) Electronic Vendor Invoice Program (eVIP)

SUMMARY: The purpose of this notice is to announce the future implementation of the Electronic Vendor Invoice Program (eVIP) at the National Institutes of Health (NIH) and the planned modification of NIH awards to require vendors to use the eVIP in future contracts.

FOR FURTHER INFORMATION CONTACT: Darlene Walls, The Division of Acquisition Policy and Evaluation, The National Institutes of Health, 6100 Executive Blvd., Rockville, Maryland 20852 or PPMB@mail.nih.gov.

SUPPLEMENTARY INFORMATION: Electronic invoicing will enhance compliance with laws and regulations that govern the accuracy, timeliness, and cost-effectiveness of the Federal Government's payment process. Executive Order 13576, Delivering an Efficient, Effective, and Accountable Government, issued June 13, 2011, requires Federal Government agencies to become more effective and efficient, cut waste, and streamline Government operations. The Federal Acquisition Regulation (FAR) subpart 32.9 prescribes policies, procedures, and clauses for implementing prompt payment regulations. Electronic invoice submission through eVIP will reduce inefficiencies related to paper-based invoicing, reduce interest payments caused by late payments of invoices, and ultimately foster the prompt payment of invoices to vendors.

Public Law 111-204, Improper Payments Elimination and Recovery Act of 2010, requires Federal Government agencies to periodically review all programs and identify the programs and activities that may be susceptible to significant improper payments. Section 2(h)(4) of Public Law 111-204 requires the head of the agency to conduct a financial management improvement program, consistent with the rules prescribed by the Director of the Office of Management and Budget.

The first priority of the program must address problems that contribute directly to the agency improper payments. The eVIP solution allows for vendor invoices to be matched to the award document electronically, thereby minimizing processing errors associated with invoice mailing, invoice scanning, or invoice entry and enhances the ability to make proper invoice payments. Ultimately, the eVIP solution is expected to result in a decrease in interest payments, an increase in data accuracy, and provide an enhanced ability to make proper invoice payments.

The eVIP will be implemented in three phases, Phase I Pilot, Phase II Pilot, and Roll-Out:

Phase I Pilot: Phase I was initiated in October 2009. Four pilot vendors were provisioned in the electronic system to test the functionality for viewing invoices, and later, submitting invoices for payment. Lessons learned were gathered from the feedback received and areas for improvement were identified.

Phase II Pilot: Enhancements in processes are being made to the electronic payment system based on the lessons learned during Phase I. Six additional vendors will be added and both Phase I and Phase II vendors will be provisioned using a authentication process different from that available in Phase I, and will be provided access to view invoices and submit invoices for payment.

Roll-Out: Phase II will be initiated in March 2013. The results of the Phase II effort will be assessed prior to formal implementation of the eVIP initiative. It is anticipated that implementation will occur through the use of a phased approach, beginning in October 2013.

Dated: March 9, 2013.
Lawrence A. Tabak,
Deputy Director, National Institutes of Health.

[FR Doc. 2013-07037 Filed 3-26-13; 8:45 am]

BILLING CODE 4140-01-P